DEPARTMENT OF COMMERCE

National Oceanic and Atmospheric Administration

RIN 0648-XF871

Marine Mammals; File No. 21339

AGENCY: National Marine Fisheries Service (NMFS), National Oceanic and Atmospheric Administration (NOAA), Commerce.

ACTION: Notice; receipt of application.

SUMMARY: Notice is hereby given that Kerri Smith, University of Texas at El Paso, 500 West University Ave., El Paso, Texas 79968, has applied in due form for a permit to receive, import and export marine mammal specimens for scientific research.

DATES: Written, telefaxed, or email comments must be received on or before January 8, 2018.

ADDRESSES: The application and related documents are available for review by selecting “Records Open for Public Comment” from the “Features” box on the Applications and Permits for Protected Species (APPS) home page, https://apps.nmfs.noaa.gov, and then selecting File No. 21339 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 21339 in the subject line of the email comment.

Those individuals requesting a public hearing should submit a written request to the Chief, Permits and Conservation Division at the address listed above. The request should set forth the specific reasons why a hearing on this application would be appropriate.

FOR FURTHER INFORMATION CONTACT: Jennifer Skidmore, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to receive, import, and export samples from up to 150 Sowerby's beaked whale (Mesoplodon bidens) and 130 samples from 13 other species of non-ESA listed cetaceans. The objectives of this research are to: (a) Investigate life history characteristics of these species using stable isotope analysis; and (b) improve techniques of stable isotope analysis in marine mammal studies. Samples would include bone, teeth, baleen, and muscle tissue from museum and research collections. No takes of live animals would be authorized under this permit. The permit would be valid for up to five years after issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 4, 2017.
Julia Harrison,
Chief, Permits and Conservation Division, Office of Protected Resources, National Marine Fisheries Service.

[FR Doc. 2017-26391 Filed 12-6-17; 8:45 am]

BILLING CODE 3510-22-P